DEPARTMENT OF THE TREASURY

Community Development Financial Institutions Fund

Open Meeting of the Community Development Advisory Board

AGENCY: Community Development Financial Institutions Fund, Department of the Treasury.

ACTION: Notice of open meeting.

SUMMARY: This notice announces the next meeting of the Community Development Advisory Board (the Advisory Board), which provides advice to the Director of the Community Development Financial Institutions Fund (the CDFI Fund). The meeting will be conducted via telephone conference call.

DATES: The next meeting of the Advisory Board will be held from 2 p.m. to 3:30 p.m. Eastern Time on Thursday, March 5, 2009.

FOR FURTHER INFORMATION, CONTACT: The Office of Public and Legislative Affairs of the CDFI Fund, 601 Thirteenth Street, NW., Suite 200 South, Washington, DC 20005, (202) 622-8042 (this is not a toll free number). Other information regarding the CDFI Fund and its programs may be obtained through the CDFI Fund's Web site at http://www.cdfifund.gov.

SUPPLEMENTARY INFORMATION: Section 104(d) of the Community Development Banking and Financial Institutions Act of 1994 (12 U.S.C. 4703(d)) established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board shall not advise the CDFI Fund on the granting or denial of any particular application for monetary or non-monetary awards. The Advisory Board shall meet at least annually.

The next meeting of the Advisory Board, all of which will be open to the public, will be held from 2 p.m. to 3:30 p.m. Eastern Time on Thursday, March 5, 2009 via a telephone conference call. Public participation will be limited to 25 individual phone lines. Notification of intent to attend the meeting must be made via e-mail to advisoryboard@cdfi.treas.gov. The CDFI Fund will send confirmation of attendance and instructions on accessing the meeting to the first 25 individuals who submit notifications of intent.

Participation in the discussions at the meeting will be limited to Advisory Board members, Department of the Treasury staff, and certain invited guests. Anyone who would like to have the Advisory Board consider a written statement must submit it to the Office of Public and Legislative Affairs, CDFI Fund, 601 Thirteenth Street, NW., Suite 200 South, Washington, DC 20005, by 5 p.m. Eastern Time on Friday, February 27, 2009.

The Advisory Board meeting will include a presentation with recommendations by a subcommittee of the Advisory Board to the full Advisory Board and deliberation on those recommendations.

Authority: 12 U.S.C. 4703; Chapter X, Public Law 104-19, 109 Stat. 237.

Dated: February 12, 2009.
Donna J. Gambrell,
Director, Community Development Financial Institutions Fund.

[FR Doc. E9-3444 Filed 2-17-09; 8:45 am]

BILLING CODE 4810-70-P